DEPARTMENT OF TRANSPORTATION

Federal Aviation Administration

[Summary Notice No. PE-2001-58]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Wahington, DC, on July 25, 2001.
Donald P. Byrne,
Assistant Chief Counsel for Regulations.

Dispositions of Petitions

Docket No.: 29434.

Petitioner: The Boeing Compamy.

Section of 14 CFR Affected: 14 CFR 21.325(b)(3).

Description of Relief Sought/Disposition: To allow Boeing to issue export airworthiness approvals for Class II and Class III products that are located at and manufactured by Bowing Arnprior as an approved supplier to Boeing under Boeing's PC No. 700. Grant, 06/26/2001, Exemption No. 7552

Docket No.: FAA-2001-9922.

Petitioner: Daedalus, Inc. dba Business Aviation Services.

Section of 14 CFR Affected: 14 CFR 135.143(c)(2).

Description of Relief Sought/Disposition: To permit BAS to operate certain aircraft under part 135 without a TSO-C112 (Mode S) transponder installed in the aircraft. Grant, 07/09/2001, Exemption No. 7569

Docket No.: FAA-2001-10017.

Petitioner: Fairfield County Pilot Association.

Section of 14 CFR Affected: 14 CFR 135.251, 135.255, 135.353, and appendixes I and J to part 121.

Description of Relief Sought/Disposition: To permit FCPA to conduct local sightseeing flights at the Fairfield County Airport, Lancaster, Ohio, for compensation or hire, without complying with certain anti-drug and alcohol misuse prevention requirements of part 135. Grant, 07/12/2001, Exemption No. 7570

Docket No.: FAA-2001-8786 (previously Docket No. 29492).

Petitioner: Lynden Air Cargo.

Section of 14 CFR Affected: 14 CFR 121.344

Description of Relief Sought/Disposition: To permit LAC to operate its 4 Lockheed Martin 382G Hercules (L382G) airplanes (Registration Nos. N401LC. N402LC, N403LC, and N404LC; Serial Nos. 4606, 4698, 4590, and 4763, respectively) under part 121 without those aircraft being equipped with an approved flight data recorder. Grant, 07/13/2001, Exemption no. 6921A

[FR Doc. 01-18927 Filed 7-27-01; 8:45 am]

BILLING CODE 4910-13-M